DEPARTMENT OF HOMELAND SECURITY

Coast Guard

33 CFR Part 117

[Docket No. USCG-2016-0257]

Drawbridge Operation Regulation; Delaware River, Pennsauken Township, NJ

AGENCY: Coast Guard, DHS.

ACTION: Notice of temporary deviation from regulations; request for comments.

SUMMARY: The Coast Guard has issued a temporary deviation from the operating regulation that governs the DELAIR Memorial Railroad Bridge across the Delaware River, mile 104.6, at Pennsauken Township, NJ. This deviation will test the remote operation capability of the drawbridge to determine whether the bridge can be safely operated from a remote location. This deviation will allow the bridge to be remotely operated from the Conrail South Jersey dispatch center in Mount Laurel, NJ, instead of being operated by an on-site bridge tender.

DATES: This deviation is effective from 8 a.m. on April 24, 2017, to 7:59 a.m. on October 21, 2017. Comments and related material must reach the Coast Guard on or before August 18, 2017.

ADDRESSES: You may submit comments identified by docket number USCG-2016-0257 using Federal eRulemaking Portal at http://www.regulations.gov.

See the “Public Participation and Request for Comments” portion of the SUPPLEMENTARY INFORMATION section below for instructions on submitting comments.

FOR FURTHER INFORMATION CONTACT: If you have questions on this test deviation, call or email Mr. Hal R. Pitts, Fifth Coast Guard District (dpb); telephone (757) 398-6222, email Hal.R.Pitts@uscg.mil.

SUPPLEMENTARY INFORMATION:

I. Background, Purpose and Legal Basis

The DELAIR Memorial Bridge across the Delaware River, mile 104.6, at Pennsauken Township, NJ, owned and operated by Conrail Shared Assets, has a vertical clearance of 49 feet above mean high water in the closed-to-navigation position. There is a daily average of 28 New Jersey Transit trains and 8 Conrail freight trains that cross the bridge and a daily average of 3 bridge openings that allow one or more vessels to transit through the bridge during each opening. The bridge is normally maintained in the closed position, due to the average daily number of trains crossing the bridge. The operating schedule is published in 33 CFR 117.716. This operating schedule has been in effect since 1984 and will not change with the implementation of remote operation of the bridge. This test deviation allows the bridge to be operated remotely from the bridge owner's South Jersey dispatch center in Mount Laurel, NJ.

The Delaware River is used by a variety of vessels including deep draft commercial vessels, tug and barge traffic, recreational vessels, and public vessels including military vessels of various sizes. The three-year average number of bridge openings and maximum number of bridge openings by month and overall for 2013 through 2015, as drawn from the data contained in the bridge tender logs, is presented below.

Month | Average openings | Maximum openings
January | 73 | 88
February | 54 | 56
March | 80 | 94
April | 55 | 68
May | 60 | 67
June | 60 | 71
July | 122 | 162
August | 112 | 138
September | 143 | 201
October | 109 | 117
November | 100 | 116
December | 100 | 122
Monthly | 89 | 201
Daily | 3 | 7

The bridge owner and the maritime community have been working together since 2013 in an effort to incorporate sensors and other technologies into the bridge and the Conrail South Jersey dispatch center to allow for the safe and effective remote operation of the bridge. The remote operation system includes eight camera views (four marine and four rail), two forward-looking infrared equipped camera views (marine), marine radar, a dedicated telephone line for bridge operations, radiotelephone on VHF-FM channels 13 and 16, and an automated identification system (AIS) transmitter to provide bridge status. The AIS transmitter has been installed on the New Jersey side of the bridge at the bridge and land intersection in approximate position 39 degrees, 58 minutes, 50.52 seconds North (39.9807), 75 degrees, 03 minutes, 58.75 seconds West (−75.06632). The AIS transmitter is assigned maritime mobile service identity (MMSI) number 993663001 and will provide the status of the bridge (open/closed/inoperative) via the name transmitted by the private aids to navigation as: DELAIR BRG-OPEN (fully open and locked position, channel light green), DELAIR BRG-CLOSED (other than fully open, not inoperative), or DELAIR BRG-INOP (other than fully open, inoperative). The AIS transmitter will transmit the bridge status every two minutes and upon a change in the bridge status.

The remote operation system is designed to provide equal or greater capabilities compared to the on-site bridge tender, in visibility of the waterway and bridge, and in signals (communications) via sound and visual signals and radio telephone (voice) via VHF-FM channels 13 and 16. The remote operation system also incorporates real-time bridge status via AIS signal to aid mariners in voyage planning and navigational decision-making, a dedicated telephone line (856) 231-2301 for bridge operations, and push-to-talk (PTT) capability on VHF-FM channel 13.

The remote operation system will be considered failed and qualified personnel will return and operate the bridge within 60 minutes, if any of the following conditions are found: (1) The remote operation system becomes incapable of safely and effectively operating the bridge from the remote operation center, (2) visibility of the waterway or bridge is degraded to less than equal that of an on-site bridge tender (all eight camera views are required), (3) signals (communications) via sound or visual signals or radio telephone (voice) via VHF-FM channels 13 or 16 become inoperative, or (4) AIS becomes inoperative.

The test deviation will commence at 8 a.m. on April 24, 2017, and conclude at 7:59 a.m. on October 21, 2017. During the test deviation, a bridge tender will be stationed on-site at the bridge and will be able to immediately take local control of the bridge, as required. Vessels that require an opening shall continue to request an opening via the methods (sound or visual signals or radio telephone (VHF-FM) voice communications) as defined in 33 CFR 117.15(b) through (d), via telephone at (856) 231-2301, or push-to-talk (PTT) on VHF-FM channel 13. Vessels may push the PTT button five times while on VHF-FM channel 13 and the South Jersey dispatch center, or bridge tender at the bridge, will receive and respond to the request and commence opening of the bridge. During the test deviation, if the South Jersey dispatch center does not respond to a vessel's request, or is unable to operate the bridge, the bridge tender at the bridge will take immediate action to respond to the vessel's request for a bridge opening and commence opening of the bridge in accordance with regulations.

During the second half of the test deviation period, commencing on or before 8 a.m. on July 23, 2017, the remote operation system will incorporate the capability to receive and respond to sound and visual signals from the remote operation center. Prior to incorporation of the capability to receive and respond to sound and visual signals from the remote operation center, the on-sight bridge tender will receive and respond to sound and visual signals and coordinate an opening of the bridge with the remote operation center. The signals for the remote operation center to respond to a sound signal for a bridge opening will include: (1) When draw can be opened immediately—a sound signal of one prolonged blast followed by one short blast and illumination of a fixed white light not more than 30 seconds after the requesting signal or (2) when the draw cannot be opened immediately—five short blasts sounded in rapid succession and illumination of a fixed red light not more 30 seconds after the vessel's opening signal. The signals to respond to a visual signal for a bridge opening will include: (1) When draw can be opened immediately—illumination of a fixed white light not more than 30 seconds after the requesting signal or (2) when the draw cannot be opened immediately—illumination of a fixed red light not more 30 seconds after the vessel's opening signal. The fixed white light will remain illuminated until the bridge reaches the fully open position. The fixed white and red lights will be positioned on the east (New Jersey) bridge abutment adjacent to the navigation span.

During the test deviation period, the bridge owner will collect data on the performance and operation of the bridge and efficacy of the remote operation system sensors, technologies, and processes and procedures. The incorporation of AIS is designed to enhance the availability of real-time information regarding the status of the DELAIR Bridge for vessel operators and other maritime stakeholders.

The bridge owner conducted significant coordination with the U. S. Coast Guard, Mariners' Advisory Committee for the Bay and River Delaware, and maritime stakeholders in 2013, 2014, and 2015, regarding remote operation of the DELAIR Bridge and in developing a plan to perform this test deviation. The bridge owner also met with the U. S. Coast Guard and Delaware River Pilots, and provided a tour of their South Jersey dispatch center and demonstration of the remote operation of the bridge for interested stakeholders, in January 2015.

In accordance with 33 CFR 117.35(e), the drawbridge must return to normal (local) operation at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at http://www.regulations.gov. If your material cannot be submitted using http://www.regulations.gov, contact the person in the FOR FURTHER INFORMATION CONTACT section of this document for alternate instructions.

We accept anonymous comments. All comments received will be posted without change to http://www.regulations.gov and will include any personal information you have provided. For more about privacy and the docket, you may review a Privacy Act notice regarding the Federal Docket Management System in the March 24, 2005, issue of the Federal Register (70 FR 15086).

Documents mentioned in this notification and all public comments, are in our online docket at http://www.regulations.gov and can be viewed by following that Web site's instructions. Additionally, if you go to the online docket and sign up for email alerts, you will be notified when comments are posted or a final rule is published.

Dated: April 6, 2017.
Hal R. Pitts,
Bridge Program Manager, Fifth Coast Guard District.

[FR Doc. 2017-07287 Filed 4-11-17; 8:45 am]

BILLING CODE 9110-04-P